DEPARTMENT OF DEFENSE

GENERAL SERVICES ADMINISTRATION

NATIONAL AERONAUTICS AND SPACE ADMINISTRATION

48 CFR Part 52

Federal Acquisition Regulation; Conforming Late Offer Treatment

CFR Correction

In Title 48 of the Code of Federal Regulations, Chapter 1 (Parts 52 to 99), revised as of October 1, 2008, on pages 79 and 80, remove and reserve sections 52.214-32 and 52.214-33.

[FR Doc. E9-23475 Filed 9-28-09; 8:45 am]

BILLING CODE 1505-01-D